POSTAL SERVICE

United States Postal Service Board of Governors; Sunshine Act Meeting

TIMES AND DATES: 11 a.m., Monday, August 7, 2000; 8:30 a.m., Tuesday, August 8, 2000.

PLACE: Reno, Nevada, at the Silver Legacy Hotel, 407 North Virginia Street, in the Silver Baron D&E rooms.

STATUS: August 7, (Closed); August 8 (Open).

MATTERS TO BE CONSIDERED:

Monday, August 7—11 a.m. (Closed)

1. Postal Rate Commission Opinion and Recommended Decision in Docket No. MC2000-2, Mailing Online Experiment.

2. Financial Performance.

3. Contingent Borrowing Authority.

4. Fiscal Year 2000 Economic Value Added (EVA) Variable Pay Program.

5. Establish/Deploy Process.

6. Priority Mail Global Guaranteed (PMGG).

7. Personnel Matters.

8. Compensation Issues.

Tuesday, August 8—8:30 a.m. (Open)

1. Minutes of the Previous Meeting, July 10-11, 2000.

2. Remarks of the Deputy Postmaster General.

3. Briefing on the Inspector General Hotline.

4. Capital Investments.

a. 2,403 Mixed Delivery and Collection Vehicles.

b. Delivery Operations Information System (DOIS).

c. Delivery Bar Code Sorter Expanded Capability (DBCS-EC).

d. Carrier Sequence Bar Code Sorter (CSBCS) Sort Bin Expansion.

e. Small Parcel & Bundle Sorters (SPBS) Control System Modifications.

f. Las Vegas, Navada—Crossroads and Topaz Stations.

5. Report on the Western Area and Las Vegas District.

6. Tentative Agenda for the August 28-29, 2000, meeting in Washington, DC.

CONTACT PERSON FOR MORE INFORMATION: David G. Hunter, Secretary of the Board, U.S. Postal Service, 475 L'Enfant Plaza, SW., Washington, DC 20260-1000. Telephone (202) 268-4800.

David G. Hunter,
Secretary.

[FR Doc. 00-19109 Filed 7-25-00; 2:19 pm]

BILLING CODE 7710-12-M